DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

BNSF Railway

[Docket Number FRA-2008-0032]

The BNSF Railway (BNSF) seeks a waiver of compliance from certain provisions of 49 CFR Part 232, Brake System Safety Standards for Freight and Other Non-Passenger Trains and Equipment. Specifically, they are requesting a waiver from the requirements for performing the single car air brake test as prescribed in 49 CFR 232.305(b)(2), “A railroad shall perform a single car air brake test on a car when * * * a car is on a shop or repair track, as defined in 232.303(a), for any reason and has not received a single car air brake test within the previous 12-month period.”

BNSF requests that the single car air brake tests be waived for the replacement of wheels, as this would allow for the efficient systemwide removal and replacement of damaged wheels to include high-impact wheels. BNSF would like to perform these repairs in-train on cars in yards across their system without having to perform a single car air brake test on such cars. BNSF contends this practice would be consistent with the regulatory exception provided in 49 CFR 232.303(a)(2), which states that wheel change-outs on intermodal loading ramps are not defined as “major repairs,” and therefore excepts such intermodal ramps from the definition of a shop or repair track, which excepts such wheel change-outs from single car air brake tests.

BNSF further contends that the removal and replacement of wheels does not affect the brake system and believes that subjecting these cars to single car air brake requirements is unnecessary. BNSF states that by granting this request, they will be able to process more wheel change-outs, thereby increasing the ability to make these safety improvements. BNSF does not believe that granting this waiver will have an adverse effect on the safety of railroad operations.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0032) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on June 1, 2009.
Grady C. Cothen, Jr.,
Deputy Associate Administrator for Safety Standards and Program Development.

[FR Doc. E9-13202 Filed 6-4-09; 8:45 am]

BILLING CODE 4910-06-P